DEPARTMENT OF DEFENSE

Department of the Navy

Finding of No Significant Impact (FONSI) for the Programmatic Environmental Assessment/Overseas Environmental Assessment (EA/OEA) for the Undersea Warfare Exercise (USWEX) Within the Hawaii Range Complex

AGENCY: Department of the Navy, DoD.

ACTION: Notice of Finding of No Significant Impact.

SUMMARY: Pursuant to Section 102(2)(C) of the National Environmental Policy Act (NEPA) of 1969 and the Council on Environmental Quality regulations (40 CFR parts 1500-1508), implementing procedural provisions of NEPA, the Department of the Navy (DON) gives notice that a Programmatic EA/OE has been prepared and a Finding of No Significant Impact (FONSI) has been issued for the implementation of Alternative 1, which allows for up to six future Undersea Warfare Exercises (USWEXs) annually within the Hawaii Range Complex from January 2007 through January 2009.

DATES: The FONSI was signed on January 24, 2007.

ADDRESSES: The Final Programmatic EA/OEA and FONSI are available for public review at the following locations:

1. Wailuku Public Library, 251 High Street, Wailuku, HI 96793 (Maui).

2. Hilo Public Library, 300 Waianaenue Avenue, Hilo, HI 96720 (Hawaii).

3. Hawaii State Library, Hawaii and Pacific Section Document Unit, 478 South King Street, Honolulu, HI 96813 (Oahu).

4. Lihue Public Library, 4344 Hardy Street, Lihue, HI 96766 (Kauai).

Electronic copies of the Final Programmatic EA/OEA and FONSI are available for public viewing or downloading at http://www.govsupport.us/uswex. Single copies of the Final Programmatic EA/OEA and FONSI may be obtained by written request from: Commander, U.S. Pacific Fleet (N01CE), 250 Makalapa Drive, Pearl Harbor, HI 96860-3131.

FOR FURTHER INFORMATION CONTACT: Commander, U.S. Pacific Fleet (N01CE), 250 Makalapa Drive, Pearl Harbor, HI 96860-3131, 808-474-7836, or visit http://www.govsupport.us/uswex.

SUPPLEMENTARY INFORMATION: USWEX is an advanced Anti-Submarine Warfare Exercise proposed to be conducted by U.S. Navy Carrier Strike Groups (CSGs) and Expeditionary Strike Groups (ESGs) while in transit from the west coast of the United States to the western Pacific Ocean using existing operating areas and ranges within the Hawaii Range Complex. As identified in the USWEX Programmatic EA/OEA, the Proposed Action is to conduct USWEXs in the Hawaii Range Complex for deploying west coast-based CSGs and ESGs, and Hawaii homeported ships and submarines. Training events similar to those that comprise a USWEX are currently being conducted individually. USWEX is a combination of training events that results in a sea control/power projection fleet exercise that is required in order to meet training objectives for deploying or deployable CSGs and ESGs.

Anti-Submarine Warfare training conducted during a USWEX utilizes ships, submarines, aircraft, non-explosive exercise weapons, and other training systems and devices. During a typical USWEX, embarked aircraft will also be conducting training prior to deployment to the western Pacific Ocean. Fixed-wing aircraft will fly sorties to Pohakuloa Training Area on the Island of Hawaii, and rotary aircraft will fly sorties to Kaula located off the coast of Kauai. Aircraft will utilize these live ranges to drop live or inert rounds. During an ESG USWEX, amphibious forces could utilize the beaches at Pacific Missile Range Facility or at Marine Corps Training Area Bellows to conduct amphibious landings. The EA/OEA includes an analysis of three Alternatives. Alternative 1 analyzes four CSG USWEXs and two ESG USWEXs per year occurring in the Hawaii Range Complex. Alternative 2 analyzes three CSG USWEXs and one ESG USWEX per year occurring in the Hawaii Range Complex. Under the No Action Alternative, individual training events that compose a USWEX would continue to occur; however, they would not be consolidated into a coordinated training event.

The analysis conducted in the USWEX Programmatic EA/OEA focused on the following resources: Airspace, biological resources, cultural resources, land use, noise, and safety and health. Impacts to biological resources will not be significant. The EA/OEA analyzes mid-frequency active sonar use associated with the USWEX and documents an acoustic exposure effects-analysis on marine mammals that may be affected by the USWEX training events and use of mid-frequency active sonar. There are no predicted marine mammal sonar exposures that would result in injury or mortality. The DON consulted with the National Marine Fisheries Service and received a biological opinion and an incidental take statement under Section 7 of the Endangered Species Act that determined the Proposed Action would not result in jeopardy to any endangered species. No new special use airspace proposal or any modification to the existing special use airspace is proposed. Impacts to cultural resources, land use, noise, and safety and health are not anticipated.

Based on the information gathered during preparation of the USWEX Programmatic EA/OEA, the DoD finds that up to six USWEX per year under Alternative 1 within the Hawaii Range Complex will not significantly impact the environment and, therefore, an EIS is not required for implementing Alternative 1.

Dated: January 29, 2007.
M.A. Harvison,
Lieutenant Commander, Judge Advocate General's Corps, U.S. Navy, Federal Register Liaison Officer.

[FR Doc. E7-1746 Filed 2-1-07; 8:45 am]

BILLING CODE 3810-FF-P